OCCUPATIONAL SAFETY AND HEALTH REVIEW COMMISSION

29 CFR Parts 2200, 2203, and 2204

Rules of Procedure; Regulations Implementing the Government in the Sunshine Act; Implementation of the Equal Access to Justice Act in Proceedings Before the Occupational Safety and Health Review Commission; Correction

AGENCY: Occupational Safety and Health Review Commission.

ACTION: Final rule; correction.

SUMMARY: The Occupational Safety and Health Review Commission (OSHRC) is correcting an erroneous instruction, appearing in the Federal Register of December 7, 2009 (74 FR 63985), that could not be carried out. The document made various corrections and technical amendments to its rules and regulations set forth in parts 2200, 2203, and 2204. This correction removes the erroneous instruction and discussion of it in the preamble.

DATES: Effective on April 12, 2010.

FOR FURTHER INFORMATION CONTACT: Ron Bailey, Attorney-Advisor, Office of the General Counsel, by telephone at (202) 606-5410, by e-mail at rbailey@oshrc.gov, or by mail at: 1120-20th Street, NW., Ninth Floor, Washington, DC 20036-3457.

SUPPLEMENTARY INFORMATION: OSHRC published a document in the Federal Register on December 7, 2009 setting forth an amendatory instruction that was impossible to carry out. Specifically, with respect to 29 CFR 2200.209, OSHRC directed that a hyphen be placed between the number “20” and the word “day,” so that the relevant portion of the provision would read “20-day period.” But in a prior rules revision, dated September 29, 2008 (73 FR 56491), the phrase “20 day period” had been changed to “11-day period.” OSHRC intends for § 2200.209 to continue to read “11-day period.”

In FR Doc. E9-28845 appearing on page 63985 in the Federal Register of Monday, December 7, 2009, the following corrections are made:

1. On page 63985, in the center column, in the second paragraph of SUPPLEMENTARY INFORMATION, remove the word “Second” and add in its place the word “First” in the third sentence.

2. On page 63985, in the center column, in the second paragraph of SUPPLEMENTARY INFORMATION, remove the word “Third” and add in its place the word “Second” in the fourth sentence.

3. On page 63985, in the center column, in the second paragraph of SUPPLEMENTARY INFORMATION, remove the word “Fourth” and add in its place the word “Third” in the fifth sentence.

4. On page 63985, in the center column, in the second paragraph of SUPPLEMENTARY INFORMATION, remove the word “Fifth” and add in its place the word “Fourth” in the sixth sentence.

5. On page 63985, in the center column, in the second paragraph of SUPPLEMENTARY INFORMATION, remove the word “Sixth” and add in its place the word “Fifth” in the seventh sentence.

6. On page 63985, in the right column, in the second paragraph of SUPPLEMENTARY INFORMATION, remove the word “Seventh” and add in its place the word “Sixth” in the ninth sentence.

7. On page 63985, in the right column, in the second paragraph of SUPPLEMENTARY INFORMATION, remove the word “Eighth” and add in its place the word “Seventh” in the thirteenth sentence.

8. On page 63985, in the right column, in the second paragraph of SUPPLEMENTARY INFORMATION, remove the word “Ninth” and add in its place the word “Eighth” in the fifteenth sentence.

9. On page 63985, in the center column, in the second paragraph of SUPPLEMENTARY INFORMATION, remove the second sentence, which reads, “First, in § 2200.209(g), the phrase ‘the 21 day period' is amended to include a hyphen between ‘21’ and ‘day.' ”

§ 2200.209 [Corrected]

10. On page 63988, in the left column, remove instruction 28.b, which reads, “b. Adding a hyphen between the numeral ‘21’ and the word ‘day’ in the last sentence of paragraph (g).”

Signed at Washington, DC, on the 29th day of March, 2010.
Thomasina V. Rogers,
Chairman.
Horace A. Thompson III,
Commissioner.
Cynthia L. Attwood,
Commissioner.

[FR Doc. 2010-7949 Filed 4-9-10; 8:45 am]

BILLING CODE 7600-01-P